DEPARTMENT OF DEFENSE

Department of the Army

Army Science Board; Notice of Open Meeting

In accordance with section 10(a)(2) of the Federal Advisory Committee Act (Pub. L. 92-463), announcement is made of the following Committee Meeting.

Name of Committee: Army Science Board (ASB).

Date of Meeting: October 30, 2000—November 1, 2000.

Time of Meeting: 0730—1700.

Place: Fort Benning, Georgia (Classroom Six in the Infantry Hall).

Agenda: The Army Science Board's (ASB) will hold their annual Fall Membership meeting at Fort Benning. This meeting will be open to the public. Any interested person may attend, appear before, or file statements with the committee at the time and in the manner permitted by the committee. For further information, please contact Mr. Everett R. Gooch at (703) 604-7479.

Wayne Joyner,
Program Support Specialist, Army Science Board.

[FR Doc. 00-25759 Filed 10-5-00; 8:45 am]

BILLING CODE 3710-08-M